DEPARTMENT OF TRANSPORTATION

Federal Aviation Administration

Ninth Meeting: Joint RTCA Special Committee 213: EUROCAE WG-79: Enhanced Flight Vision Systems/Synthetic Vision Systems (EFVS/SVS)

AGENCY: Federal Aviation Administration (FAA), DOT.

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held June 15-16, 2010. from 8:30 a.m.-5 p.m. (0830-1700).

ADDRESSES: The meeting will be held at the RTCA Headquarters, 1828 L Street, NW., Suite 805, Washington, DC 20036, 202-833-9339.

Objective: Objective is completion of comment disposition from Final Review and Comment (FRAC) period of draft MASPS for EFVS approach and landing.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (P.L. 92-463, 5 U.S.C., Appendix 2), notice is hereby given for a Joint RTCA Special Committee 213: EUROCAE WG-79: Enhanced Flight Vision Systems/Synthetic Vision Systems (EFVS/SVS) meeting. The agenda will include:

Tuesday, 15 June

• Plenary (0830-1700, including breaks and lunch).

• Review comments.

• Topic: Enhanced Flight Vision.

Wednesday, 16 June

• Plenary (0900-1700, including breaks and lunch).

• Review comments.

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on May 17, 2010.
Francisco Estrada C.,
RTCA Advisory Committee.

[FR Doc. 2010-12359 Filed 5-21-10; 8:45 am]

BILLING CODE 4910-13-P